DEPARTMENT OF AGRICULTURE

Submission for OMB Review; Comment Request

December 1, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Cold Storage.

OMB Control Number: 0535-0001.

Summary of Collection: The primary objective of the National Agricultural Statistics Service (NASS) is to prepare and issue State and national estimates of crop and livestock production. The monthly Cold Storage Survey provides information on national supplies of food commodities in refrigerated storage facilities and is used as part of the country's preparedness in case of a national emergency. The data will be collected under the authority of 7 U.S.C. 2204. This statute specifies “The Secretary of Agriculture shall procure and preserve all information concerning agriculture which he can obtain * * * by the collection of statistics * * * and shall distribute them among agriculturists.”

Need and Use of the Information: USDA agencies such as the World Agricultural Outlook Board, Economic Research Service, and Agricultural Marketing Service use the information from the Cold Storage Report in setting and administering government commodity programs and in supply and demand analysis. Included in the report are 100 food items and stock figures that are used by food processors, food brokers, and farmers in making production, marketing and pricing decisions. The timing and frequency of the surveys have evolved to meet the needs of producers, facilities, agribusinesses, and government agencies.

Description of Respondents: Business or other for-profit.

Number of Respondents: 3,920.

Frequency of Responses: Reporting: monthly; annually; biennially.

Total Burden Hours: 6,341.

National Agricultural Statistics Service

Title: Field Crops Production.

OMB Control Number: 0535-0002.

Summary of Collection: One of the National Agricultural Statistics Services' (NASS) primary functions is to prepare and issue current State and national estimates of crop and livestock production. The general authority for collecting this information is granted under U.S. Code Title 7, Section 2204. NASS will conduct field crop surveys to monitor agricultural developments across the country that may impact on the nation's food supply and to ensure that there are sufficient samples to provide accurate indications for NASS published estimates.

Need and Use of the Information: NASS will collect information through the use of mail, telephone, and personnel interviews surveys. The Secretary of Agriculture uses estimates of crop production to administer farm program legislation and to make decisions relative to the export-import programs. Collecting this information less frequently would eliminate the data needed to keep the Department abreast of changes at the State and national level.

Description of Respondents: Farms; business or other for-profits.

Number of Respondents: 605,951.

Frequency of Responses: Reporting: weekly, monthly, quarterly, annually.

Total Burden Hours: 122,145.

National Agricultural Statistics Service

Title: Fruits, Nut, and Specialty Crops.

OMB Control Number: 0535-0039.

Summary of Collection: The primary function of the National Agricultural Statistics Service (NASS) is to prepare and issue current official State and national estimates of crop and livestock production. Estimates of fruit, tree nuts, and specialty crops are an integral part of this program. These estimates support the NASS strategic plan to cover all agricultural cash receipts. The authority to collect these data is granted under U.S. Code Title 7, Section 2204. Information is collected on a voluntary basis from growers, processors, and handlers through surveys.

Need and Use of the Information: Data reported on fruit, nut, and Hawaii tropical crops are used by NASS to estimate acreage, yield, production, utilization, and crop value in states with significant commercial production. These estimates are essential to farmers, processors, and handlers in making production and marketing decisions. Estimates from these inquiries are used by market order administrators in their determination of expected supplies of crop under federal and state market orders as well as competitive fruits and nuts.

Description of Respondents: Farms; business or other for-profit.

Number of Respondents: 70,086.

Frequency of Responses: Reporting: on occasion; annually; quarterly; semi-annually; monthly.

Total Burden Hours: 10,117.

National Agriculture Statistics Service

Title: Childhood Injury and Adult Occupational Survey.

OMB Control Number: 0535-0235.

Summary of Collection: Primary function of the National Agricultural Statistics Services (NASS) is to prepare and issue state and national estimates of crop and livestock production under the authority of 7 U.S.C. 2204. NASS will conduct a national childhood agricultural injury survey and an adult occupational farm injury survey focusing on minority farm operators. The study will provide estimates of annual childhood and adult nonfatal injury incidence rates, annual injury frequencies, and descriptive injury information for children under the age of 20 living, working or visiting farm operations.

Need and Use of the Information: Data from this survey will provide a source of consistent information that the National Institute for Occupational Safety and Health (NIOSH) can use to target funds appropriated by Congress for the prevention of childhood agricultural injuries and adult occupational injuries. No source of data on childhood injuries or adult occupational farm injuries exists that covers all aspects of the agricultural production sector. If this information is not collected, NIOSH's ability to track and evaluate the impact of its injury prevention efforts will decrease.

Description of Respondents: Farms.

Number of Respondents: 50,500.

Frequency of Responses: Reporting: other.

Total Burden Hours: 12,111.

Sondra Blakey,
Departmental Information Collection Clearance Officer.

[FR Doc. 04-26782 Filed 12-6-04; 8:45 am]

BILLING CODE 3410-20-P